NATIONAL SCIENCE FOUNDATION

Committee Management; Notice of Establishment

The Deputy Director of the National Science Foundation has determined that the establishment of the Business and Operations Advisory Committee is necessary and in the public interest in connection with the performance of duties imposed upon the National Science Foundation (NSF), by 42 U.S.C. 1861 et seq. This determination follows consultation with the Committee Management Secretariat, General Services Administration.

Name of Committee: Business and Operations Advisory Committee.

Nature/Purpose: The committee will be strictly advisory and will advise the Chief Financial Officer and the Chief Information Officer of the National Science Foundation concerning issues related to the oversight, integrity, development and enhancement of NSF's business operations.

NSF Contact: Ms. Joanna Rom, Senior Advisor, Office of Budget, Finance and Award Management, National Science Foundation, 4201 Wilson Boulevard, Suite 405, Arlington, VA 22230. Telephone: (703) 292-8200.

Dated: October 31, 2000.
Karen J. York,
Committee Management Officer.

[FR Doc. 00-28396 Filed 11-3-00; 8:45 am]

BILLING CODE 7555-01-M